DEPARTMENT OF TRANSPORTATION

Federal Aviation Administration

Notice of Opportunity for Public Comment on Non-Rulemaking Action To Change Land Use From Aeronautical to Non-Aeronautical at Jackson-Medgar Wiley Evers International Airport, Jackson, Mississippi

AGENCY: Federal Aviation Administration (FAA), DOT.

ACTION: Notice.

SUMMARY: Under the provisions of title 49, U.S.C. 47153(c), notice is being given that the FAA is considering a request from the Jackson Municipal Airport Authority to waive the requirement that a 130 acre parcel of surplus property, located on Jackson-Medgar Wiley Evers International Airport, be used for aeronautical purposes.

DATES: Comments must be received on or before August 15, 2016.

ADDRESSES: Comments on this notice may be mailed or delivered in triplicate to the FAA at the following address: Jackson Airports District Office, Attn: Jeff Orr, Program Manager, 100 West Cross Street, Suite B, Jackson, MS 39208-2307.

In addition, one copy of any comments submitted to the FAA must be mailed or delivered to Mr. Carl Newman, Chief Executive Officer, Jackson Municipal Airport Authority at the following address: P.O. Box 98109, Jackson, MS 39298-8109.

FOR FURTHER INFORMATION CONTACT: Jeff Orr, Program Manager, Jackson Airports District Office, 100 West Cross Street, Suite B, Jackson, MS 39208-2307, (601) 664-9885. The application may be reviewed in person at this same location.

SUPPLEMENTARY INFORMATION: If the proposal is approved, the airport layout plan will be updated to reflect the change in the land use on 130 acres from aeronautical to non-aeronautical. The property will then be leased for Commercial Development. The location of the land relative to existing or anticipated aircraft noise contours greater than 65 DNL are not considered to be an issue. The proceeds from the lease of this property will be used for airport purposes. The proposed use of this property is compatible with airport operations.

Any person may inspect the request in person at the FAA office listed above under FOR FURTHER INFORMATION CONTACT.

In addition, any person may, upon request, inspect the request, notice and other documents germane to the request in person at the Jackson-Medgar Wiley Evers International Airport.

Issued in Jackson, Mississippi on July 7, 2016.
William J. Schuller,
Acting Manager, Jackson Airports District Office, Southern Region.

[FR Doc. 2016-16815 Filed 7-14-16; 8:45 am]

BILLING CODE 4910-13-P